DEPARTMENT OF AGRICULTURE

Forest Service

Lake Project; Manti-La Sal National Forest, Emery and Sanpete Counties, Utah

AGENCY: Forest Service, USDA.

ACTION: Notice of Intent to Prepare Environmental Impact Statement.

Authority: The National Environmental Policy Act of 1969 (NEPA), as amended (42 U.S.C. 4321-4346); Council on Environmental Quality Regulations, Title 40, Code of Federal Regulations, parts 1500-1508 (40 CFR parts 1500-1508); and U.S. Department of Agriculture NEPA Regulations, Part 1b (7 CFR 1b).

SUMMARY: Epidemic populations of spruce beetle are found on the Wasatch Plateau. Many susceptible spruce-fir stands have been infested, and it is anticipated that many more will soon be infested with spruce beetle populations. Obviously, the beetle populations could collapse due to natural factors, but at this time the populations remain viable and continue to spread. Scattered 5-10 tree pockets of spruce beetle caused mortality are present in the south end of the Lake project analysis area and if the current level of beetle activity continues without check, it is probable that most of the spruce-fir component on the Wasatch Plateau would be lost. The beetles have already caused severe impacts on several thousand acres of spruce-fir stands adjacent to and south of the analysis area. As a consequence, most spruce trees over eight inches in diameter in the area to the south are dead or dying. The insects are continuing to move in a northward direction and it is anticipated they will continue to invade, infest, and kill most of the spruce trees eight inches or large in diameter throughout this analysis area, as was the case in the adjacent spruce-fir stands to the south.

The Forest Service will prepare an Environmental Impact Statement (EIS) to document the analysis and disclose the environmental impacts of proposed actions to salvage dead, insect infested and dying trees, commercially thin live high risk trees, manage natural and prescribed burning, and restock some stands of trees located in the Spring, Rolfson, and the north and south forks of Lake Canyon drainages within the project analysis area. The project area is located on public lands administered by the Ferron/Price Ranger District approximately 20 miles northwest of Huntington, Utah. It is bordered on the north by State highway 31 located in Huntington Canyon, on the west by Skyline Drive, FDR 150, on the east by the Millers Flat road, FDR 014, and on the south at the divide between Rolfson and Staker canyons. The need for the proposal is to:

• Restore and/or maintain composition, structure, and diversity of the landscape by providing for tree species and stand density levels that will improve resistance to insects and disease;

• Facilitate rapid reestablishment of Englemann spruce through replanting of spruce;

• Enhance the aspen communities that are being lost due to conifer invasion/encroachment and lack of natural fire;

• Contribute to a timber source that helps meet National demands for forest products and recover some of the economic loss of the resource from the dead, dying, insect infested and high-risk green trees;

• Improve public safety by removing hazard trees from roadsides and from dispersed camping areas within the project area.

Portions of the Rolfson-Staker Inventoried Roadless Area are located within the analysis area but are not included in the Proposed Action. The No Action is one alternative that will be considered. Additional alternatives will be formulated based on public issues, and response analysis. The proposed action involves harvesting/salvaging approximately 3.4 MMBF (Million Board Feet) of dead, dying, insect infected and high-risk green trees from approximately 783 acres within an analysis area of about 5,000 acres. Harvest of trees would be by both aerial (helicopter) and ground based methods. Of the 783 acres to be treated, about 574 acres (73%) would be by helicopter, and approximately 209 acres (25%) by tractor. Sixty percent of the treated acres (470) are planned for artificial reforestation (hand planting of seedlings) and 40% (323) acres by natural regeneration. Approximately 3.5 miles of road maintenance, and 2 miles of road construction on existing road prisms would be needed for the project. One half mile of the two miles constructed would be reclaimed. The proposed action does not include road construction, reconstruction or logging in the inventoried roadless area.

DATES: Written comments concerning the scope of the analysis described in this Notice should be received on or before June 4, 2001.

ADDRESSES: Send written comments to Manti-La Sal National Forest, 599 West Price River Drive, Price, Utah 84501.

FOR FURTHER INFORMATION CONTACT: Questions concerning the proposed action and EIS should be addressed to Don Fullmer, Ecosystems Staff, Manti-La Sal National Forest, phone (435) 637-2817.

SUPPLEMENTARY INFORMATION: This EIS will tier to the final EIS for the Manti-La Sal National Forest Land and Resource Management Plan (Forest Plan). The Manti-La Sal Forest Plan provides the overall guidance (Goals, Objectives, Standards, and Management Area Direction) to achieve the Desired Future condition for the area being analyzed, and contains specific management area prescriptions for the entire Forest.

The Forest Service is seeking information and comments from Federal, State, and local agencies as well as individuals and organizations that may be interested in, or affected by the proposed action. The Forest Services invites written comments and suggestions on the issues related to the proposal and the area being analyzed. Information received will be used in preparation of the Draft EIS and Final EIS. For most effective use, comments should be submitted to the Forest Service within 30 days from the date of publication of this Notice in the Federal Register.

The Ferron/Price Ranger District of the Manti-La Sal National Forest in Emery and Sanpete Counties in the state of Utah would administer the proposed management activities for this analysis. Agency representatives and other interested people are invited to visit with Forest Service officials at any time during the EIS process. Two specific time periods are identified for the receipt of formal comments on the analysis. The two comment periods are: (1) During the scoping process, the next 30 days following publication of this Notice in the Federal Register, and (2) during the formal review period of the Draft EIS.

The comment period on the draft environmental impact statement will be 45 days from the date the Environmental Protection Agency publishes the notice of availability in the Federal Register. The Forest Service believes it is important to give reviewers notice at this early stage of several court rulings related to public participation in the environmental review process. First, reviewers of draft environmental impact statements must structure their participation in the environmental review of the proposal so that it is meaningful and alerts an agency to the reviewers' position and intentions.

Vermont Yankee Nuclear Power Corp. v. NRDC, 435 U.S. 519,553 (1978). Also, environmental objections that could be raised at the draft environmental impact statement stage but that are not raised until after completion of the final environmental impact statement may be waived or dismissed by the courts.

City of Angoon v. Hodel, 803 F. 2d 1016, 1022 (9th Circuit, 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement. To assist the Forest Service in identifying and considering issues and concerns on the proposed action, comments on the draft statement. Comments may also address the adequacy of the draft environmental impact statement should be as specific as possible. It is also helpful if comments refer to specific pages or chapters of the draft environmental impact statement or the merits of the alternatives formulated and discussed in the statement. Reviewers may wish to refer to the Council on Environmental Quality Regulations for implementing the procedural provisions of the National Environmental Policy Act, 40 CFR 1503.3 in addressing these points.

It is projected the final release of the EIS to be March 4, 2002. The Forest Supervisor for the Manti-La Sal National forest is the responsible official for the EIS. After considering the comments, responses, and environmental consequences discussed in the Final Environment Impact Statement, and applicable laws, regulations, and policies a decision by this official will be made regarding the proposal. The reasons for the decision will be documented in a Record of Decision. The Forest Supervisor's office of the Manti-La Sal National Forest is located at 599 West Price River Drive, Price, Utah 84501, phone: 435-637-2817.

Dated: April 27, 2001.
Elaine J. Zieroth,
Forest Supervisor, Manti-La Sal National Forest.

[FR Doc. 01-11213 Filed 5-3-01; 8:45 am]

BILLING CODE 3410-11-M